FEDERAL COMMUNICATIONS COMMISSION

47 CFR Part 73

[DA 09-837; MB Docket No. 07-175; RM-11380]

Radio Broadcasting Service; Cuba, IL

AGENCY: Federal Communications Commission.

ACTION: Final rule.

SUMMARY: The Audio Division grants a petition for rule making filed by KM Communications, Inc. (“Petitioner”) to substitute Channel 252A for vacant Channel 292 at Cuba, Illinois. Petitioner proposes the foregoing channel substitution to accommodate its construction permit application to substitute Channel 291A for Channel 252A at Abington. Channel 292A can be allotted at Cuba, Illinois, in compliance with the Commission's technical engineering requirements, at 40-25-50 North Latitude and 90-14-05 West Longitude with a site restriction of 7.9 kilometers (4.9 miles) southwest of Cuba.

DATES: Effective June 1, 2009.

ADDRESSES: Secretary, Federal Communications Commission, 445 Twelfth Street, SW., Washington, DC 20554.

FOR FURTHER INFORMATION CONTACT: Richard B. Gorman, Media Bureau, (202) 418-2187.

SUPPLEMENTARY INFORMATION: This is a synopsis of the Commission's Report and Order, MB Docket No. 07-175, adopted April 15, 2009, and released April 17, 2009. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Illinois, is amended by removing Channel 292A and by adding Channel 252A at Cuba.

Federal Communications Commission.
John A. Karousos,
Assistant Chief, Audio Division, Media Bureau.

[FR Doc. E9-10201 Filed 5-1-09; 8:45 am]

BILLING CODE 6712-01-P